ENVIRONMENTAL PROTECTION AGENCY

[EPA-R08-OW-2021-0201; FRL-8821-01-R8]

Notice of Proposed Reissuance of the NPDES General Permits for Wastewater Lagoon Systems in Indian Country in EPA, Region 8

AGENCY: Environmental Protection Agency (EPA).

ACTION: Notice of proposed draft permits and request for public comment.

SUMMARY: EPA, Region 8 (R8) is providing for comment the draft 2021 National Pollutant Discharge Elimination System (NPDES) General Permits for Wastewater Lagoon Systems in Indian Country in R8. These draft permits are renewals of existing permits and will authorize discharge of wastewater from lagoons located in R8 Indian country in accordance with the terms and conditions described therein. EPA proposes to issue these permits for five (5) years and is seeking public comment on the draft permits.

DATES: Comments must be received on or before October 12, 2021.

ADDRESSES: Comments regarding this document, identified by Docket ID No. EPA-R08-OW-2021-0201, may be submitted (preferred method) to the Federal Rulemaking Portal: https://www.regulations.gov by following the online instructions for submitting comments.

Tips for preparing your comments. When submitting comments, remember to:

a. Identify the public notice, docket number and other identifying information (subject heading, Federal Register date and page number).

b. Organize comments by referencing the part of the permit or fact sheet by section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns and suggest alternatives.

g. Explain your views as clearly as possible, avoiding the use of profanity or personal threats.

h. Make sure to submit your comments by the comment period deadline identified in the DATES section (above).

Once submitted, comments cannot be edited or removed from www.regulations.gov. Additionally, if technical difficulties are experienced submitting through this site, comments may be emailed to Alysia Tien at tien.alysia@epa.gov using subject line “Region 8 Lagoon General Permit Public Comment”. The EPA may publish any comment received to its public docket. Do not submit electronically any information you consider to be Confidential Business Information (CBI) or other information whose disclosure is restricted by statute. Refer to the General Information part of the SUPPLEMENTARY INFORMATION section below if you intend to submit information considered CBI. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Due to current office procedures related to the COVID-19 outbreak, at this time there is no opportunity to submit comments via regular mail.

FOR FURTHER INFORMATION CONTACT: For requests to make alternative arrangements for access to the docket or comment submission, please email or call: Alysia Tien, Wastewater Section, (303) 312-7021 or tien.alysia@epa.gov. Publicly available docket materials related to the draft permits may be found in the Federal Rulemaking Portal: https://www.regulations.gov, identified by Docket ID No. EPA-R08-OW-2021-0201. Although listed in the index, some information is not publicly available, e.g., CBI or other information whose disclosure is restricted by statute. Certain other material, such as copyrighted material, if applicable, would be available only in hard copy. However, to reduce the risk of COVID-19 transmission, for this action we do not plan to offer hard copy review of the docket.

SUPPLEMENTARY INFORMATION:

I. General Information

A. Public Comment Information

Any interested person may submit comments on the draft permits using the mechanisms listed above. As of the date of this document, a public hearing has not been scheduled. Within the comment period, interested persons may also submit a request, to the contact listed above, that EPA hold a public hearing pursuant to 40 CFR 124.12, concerning the draft permits. Such requests shall state the nature of the issues proposed to be raised at the hearing. A public hearing may be held at least thirty (30) days after public notice if the Regional Administrator finds that response to this document indicates significant public interest. All comments and requests for public hearings must be received in writing by the close of the public comment period. At the time of the final decision on these draft permits, EPA will respond to all significant comments and make responses available in the docket after the PN period has closed, within the final fact sheet associated with the final permits.

B. Submitting CBI

Do not submit this CBI to EPA through http://regulations.gov or email. If you intend to submit CBI information, please email or call: Alysia Tien, Wastewater Section, (303) 312-7021 or tien.alysia@epa.gov to make arrangements prior to submission. When submitting, clearly mark the part or all of the information that you claim to be CBI. For CBI information in a disk or CD ROM, mark the outside of the disk or CD ROM as CBI and identify electronically within the disk or CD ROM the specific information that is claimed as CBI. In addition to one complete version of the comment that includes information claimed as CBI, a copy of the comment that does not contain the information claimed as CBI must be submitted for inclusion in the public docket.

II. Background

The proposed draft permits are similar to the existing permits and will authorize discharge of wastewater in accordance with the terms and conditions described therein. The fact sheet for the draft permits is also provided, in the docket listed above, and provides detailed information on: The decisions used to set limitations, the specific geographic areas covered by the draft permits, information on monitoring schedules, inspection requirements, and other regulatory decisions or requirements.

Issuance of these permits will cover discharges from wastewater lagoon systems located in Colorado, Montana, North Dakota, South Dakota, Utah and Wyoming. The draft permits are geographic by state, with the permit coverage specified by Indian reservations in the state [specific permit coverage areas below]; any land held in trust by the United States for an Indian tribe; and any other areas which are Indian country within the meaning of 18 U.S.C. 1151.

III. Summary of Draft Permits

Coverage under the draft permits will be limited to lagoon systems treating primarily domestic wastewater and will include two categories of coverage; discharging lagoons (DIS), and lagoons expected to have no discharge but with the potential to discharge (NODIS). The effluent limitations for discharging lagoons are primarily based on the Federal Secondary Treatment Regulation (40 CFR part 133). However, if more stringent and/or additional effluent limitations were considered necessary to comply with applicable water quality standards, etc., those limitations and the basis for them are explained in the fact sheet and will be imposed by written notification to the permittee. Lagoon systems under the NODIS category are required to have no discharge except in accordance with the specific provisions of the permit (e.g., bypass). Self-monitoring, operation and maintenance, routine inspection and other requirements are also included in the draft permits. Where tribes have Clean Water Act (CWA) section 401(a)(1) certification authority, EPA has requested certification that the draft permits comply with applicable provisions of the CWA and any currently approved tribal water quality standard, in accordance with processes outlined in 40 CFR part 124.

Permit Coverage Has Been Designated as Follows for the Draft Permits

• Colorado (COG587###): Indian country, as defined in 18 U.S.C. 1151, located in Colorado generally includes (1) lands within the exterior boundaries of the following Indian reservations located within Colorado, in part or in full: The Southern Ute Indian Reservation and the Ute Mountain Ute Reservation; (2) any land held in trust by the United States for an Indian tribe; and (3) any other areas that are “Indian country” within the meaning of 18 U.S.C. 1151. In addition to Indian country in Colorado, the portion of the Ute Mountain Ute Reservation located in New Mexico and any other Indian country lands in New Mexico and Utah held in trust by the United States for the Ute Mountain Ute Tribe or its members.

• Montana (MTG589###): Indian country, as defined in 18 U.S.C. 1151, located in Montana generally includes (1) lands within the exterior boundaries of the following Indian reservations located within Montana: The Blackfeet Indian Reservation, the Crow Indian Reservation, the Flathead Reservation, the Fort Belknap Reservation, the Fort Peck Indian Reservation, the Northern Cheyenne Indian Reservation, and the Rocky Boy's Reservation; (2) any land held in trust by the United States for an Indian tribe; and (3) any other areas that are “Indian country” within the meaning of 18 U.S.C. 1151.

• North Dakota (NDG589###): Indian country, as defined in 18 U.S.C. 1151, located in North Dakota generally includes (1) lands within the exterior boundaries of the following Indian reservations located within North Dakota, in part or in full: The Fort Berthold Indian Reservation, the Spirit Lake Reservation, the Standing Rock Sioux Reservation, and the Turtle Mountain Reservation; (2) any land held in trust by the United States for an Indian tribe; and (3) any other areas that are “Indian country” within the meaning of 18 U.S.C. 1151. In addition to Indian country in North Dakota, the portion of the Standing Rock Sioux Reservation located in South Dakota and any other Indian country lands held in trust by the United States for the Standing Rock Sioux Tribe or its members in South Dakota.

The North Dakota draft permit covers the above identified Indian country except as provided below: Not including any Indian country lands in North Dakota held in trust by the United States for the Sisseton-Wahpeton Oyate Tribe or its members, which are covered under the South Dakota general permit (SDG589###).

• South Dakota (SDG589###): Indian country, as defined in 18 U.S.C. 1151, located in South Dakota generally includes (1) lands within the exterior boundaries of the following Indian reservations located within South Dakota, in part or in full: The Cheyenne River Reservation, the Crow Creek Reservation, the Flandreau Indian Reservation, the Lower Brule Reservation, the Pine Ridge Reservation, the Rosebud Indian Reservation, the Standing Rock Reservation, and the Yankton Reservation (subject to federal court decisions removing certain lands from Indian country status within the Yankton Reservation); (2) any land held in trust by the United States for an Indian tribe; and (3) any other areas that are “Indian country” within the meaning of 18 U.S.C. 1151. In addition to Indian country in South Dakota, Indian country lands in North Dakota held in trust by the United States for the Sisseton-Wahpeton Oyate Tribe or its members, and the portion of the Pine Ridge Reservation of the Oglala Sioux Tribe located in Nebraska and any other Indian country lands in Nebraska held in trust by the United States for the Oglala Sioux Tribe or its members.

The South Dakota draft permit covers the above identified Indian country except as provided below: Not including the portion of the Standing Rock Sioux Reservation located in South Dakota and any other Indian country lands in South Dakota held in trust by the United States for the Standing Rock Sioux Tribe or its members, which are covered under the North Dakota general permit (NDG589###).

• Utah (UTG589###): Indian country, as defined in 18 U.S.C. 1151, located in Utah generally includes (1) lands within the exterior boundaries of the following Indian reservations located within Utah, in part or in full: The Goshute Reservation, the Navajo Indian Reservation, the reservation lands of the Paiute Indian Tribe of Utah (Cedar Band of Paiutes, Kanosh Band of Paiutes, Koosharem Band of Paiutes, Indian Peaks Band of Paiutes, and Shivwits Band of Paiutes), the Skull Valley Indian Reservation, the Uintah and Ouray Reservation (subject to federal court decisions removing certain lands from Indian country status within the Uintah and Ouray Reservation), and the Washakie Reservation; (2) any land held in trust by the United States for an Indian tribe; and (3) any other areas that are “Indian country” within the meaning of 18 U.S.C. 1151.

The Utah draft permit covers the above identified Indian country except as provided below: Not including any Indian country lands in Utah held in trust by the United States for the Ute Mountain Ute Tribe or its members, which are covered under the Colorado general permit (COG587###). Not including the portions of the Goshute Reservation and the Navajo Indian Reservation in Utah, or any other Indian country lands in Utah held in trust by the United States for the Navajo Nation or its members or for the Confederated Tribes of the Goshute Reservation or its members, which are regulated by EPA Region 9.

• Wyoming (WYG589###): Indian country, as defined at 18 U.S.C. 1151, located in Wyoming generally includes any lands within the exterior boundaries of the Wind River Indian Reservation (subject to Wyoming v. EPA, 875 F.3d 505 (10th Cir. 2017), cert. denied, 138 S. Ct. 2677 (2018)); any land held in trust by the United States for an Indian tribe; and any other areas that are “Indian country” within the meaning of 18 U.S.C. 1151.

IV. Other Legal Requirements

A. Executive Order 12866: Regulatory Planning and Review and Executive Order 13563: Improving Regulation and Regulatory Review

This action is not a significant regulatory action and was therefore not subject to submission to the Office of Management and Budget (OMB) for formal review.

B. Executive Order 12898: Federal Actions To Address Environmental Justice (EJ) in Minority Populations and Low-Income Populations

Executive Order 12898 (59 FR 7629 (February 16, 1994)) establishes federal executive policy on EJ. Its main provision directs federal agencies, to the greatest extent practicable and permitted by law, to make EJ part of their mission by identifying and addressing, as appropriate, disproportionately high and adverse human health or environmental effects of their programs, policies, and activities on minority populations and low-income populations in the United States.

EPA conducted an EJ Analysis, which is described in Section VII of the fact sheet. EPA has preliminarily determined that the draft permits will not have disproportionately high and adverse human health or environmental effects on minority or low-income populations based on the effluent limits and reporting requirements contained therein. EPA requests comment on this preliminary determination and/or any modifications EPA could make to the proposed permits to address EJ concerns.

Authority: CWA, 33 U.S.C. 1251, et seq.

Dated: August 19, 2021.
Judy Bloom,
Manager, Clean Water Branch.

[FR Doc. 2021-18229 Filed 8-24-21; 8:45 am]

BILLING CODE 6560-50-P